DEPARTMENT OF STATE

[Public Notice 7931]

The Designation of Abubakar Shekau, Also Known as Abu Mohammed Abubakar bin Mohammed, Also Known as Shekau, Also Known as Abu Muhammed Abubakar Bi Muhammed, Also Known as Shehu, Also Known as Shayku, as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Abubakar Shekau, also known as Abu Mohammed Abubakar Bin Mohammed, also known as Shekau, also known as Abu Muhammed Abubakar Bi Muhammed, also known as Shehu, also known as Shayku, committed, or poses a significant risk of committing, acts of terrorism that threaten the security of U.S. nationals or the national security, foreign policy, or economy of the United States.

Consistent with the determination in Section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: June 18, 2012.
Hillary Rodham Clinton,
Secretary of State.

[FR Doc. 2012-15592 Filed 6-25-12; 8:45 am]

BILLING CODE 4710-01-P